DEPARTMENT OF EDUCATION

34 CFR Part 200

RIN 1810-AB43 and 1810-AB44

Outdated or Superseded Regulations: Title I, Parts A Through C; Christa McAuliffe Fellowship Program; and Empowerment Zone or Enterprise Community—Priority; Correction

AGENCY: Office of Elementary and Secondary Education, Department of Education.

ACTION: Correcting amendment.

SUMMARY: On August 22, 2018, the Secretary published a final rule amending the Code of Federal Regulations (CFR) by removing outdated or superseded regulations, which are no longer needed for the reasons discussed in the rule. There was a clerical error in one of the amendments that prevented two CFR sections from being removed. This document corrects that error.

DATES: This correction is effective August 31, 2018.

FOR FURTHER INFORMATION CONTACT: Anna Lieth, U.S. Department of Education, 400 Maryland Avenue SW, Room 3W337, Washington, DC 20202. Telephone: (202) 453-5682. Email: Anna.Lieth@ed.gov.

If you use a telecommunications device for the deaf (TDD) or a text telephone (TTY), call the Federal Relay Service (FRS), toll free, at 1-800-877-8339.

SUPPLEMENTARY INFORMATION: The Department is correcting a clerical error in an amendment in FR Rule Doc. No. 2018-17480, which published on August 22, 2018, at 83 FR 42440. The rule removed outdated or superseded regulations in 34 CFR parts 200, 237, and 299. One of the amendments to part 200 intended to remove §§ 200.55 through 200.57. The heading to the amendment reflected that section span but its corresponding instruction (instruction 8) directed the removal of § 200.57 only. This document correctly removes §§ 200.55 and 200.56 as originally intended in the August 22, 2018, rule.

List of Subjects in 34 CFR Part 200

Education of disadvantaged, Elementary and secondary education, Grant programs-education, Indians-education, Infants and children, Juvenile delinquency, Migrant labor, Private schools, Reporting and recordkeeping requirements.

Dated: August 28, 2018.
Frank Brogan,
Assistant Secretary for Elementary and Secondary Education.

For reasons discussed in the preamble, the Secretary correctly amends 34 CFR part 200 as follows:

PART 200—TITLE I—IMPROVING THE ACADEMIC ACHIEVEMENT OF THE DISADVANTAGED

1. The authority citation for part 200 continues to read as follows:

Authority: 20 U.S.C. 6301 through 6576, unless otherwise noted.

§§ 200.55 and 200.56 [Removed and Reserved]

2. Remove and reserve §§ 200.55 and 200.56.

[FR Doc. 2018-18960 Filed 8-30-18; 8:45 am]

BILLING CODE 4000-01-P